SECURITIES AND EXCHANGE COMMISSION

[Release No. 34-68536; File No. SR-SCCP-2012-02]

Self-Regulatory Organizations; Stock Clearing Corporation of Philadelphia; Notice of Filing of Proposed Rule Change With Respect to the Amendment of the By-Laws of Its Parent Corporation, The NASDAQ OMX Group, Inc.

December 26, 2012.

Correction

In notice document 2012-31464, appearing on pages 128-132 in the issue of Wednesday, January 2, 2013, make the following correction:

On page number 132, in the third column, on the thirteenth and fourteenth lines, the date reading “January 23, 2012” should read “January 23, 2013”.

[FR Doc. C1-2012-31464 Filed 1-15-13; 8:45 am]

BILLING CODE 1505-01-D